DEPARTMENT OF THE TREASURY

Submission for OMB Review; Comment Request

October 13, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before November 18, 2005 to be assured of consideration.

Internal Revenue Service (IRS)

OMB Number: 1545-0718.

Type of Review: Extension.

Title: Employer's Monthly Federal Tax Return.

Form: IRS form 941-M.

Description: Form 941-M is used by certain employers to report payroll taxes on a monthly rather than quarterly basis. Employers who have failed to file form 941 or who have failed to deposit taxes as required are notified by the District Director that they must file form 941-M monthly.

Respondents: Business or other for-profit and Individuals and households.

Estimated Total Burden Hours: 166,320 hours.

OMB Number: 1545-1237.

Type of Review: Extension.

Title: REG-209831-96 (Final) Consolidated Returns—Limitations on the Use of Certain Losses and Deductions.

Description: Section 1502 provides for the promulgation of regulations with respect to corporations that file consolidated income tax returns. These regulations amend the current regulations regarding the use of certain losses and deductions by such corporations.

Respondents: Business or other for-profit.

Estimated Total Burden Hours: 2,000 hours.

OMB Number: 1545-1467.

Type of Review: Extension.

Title: Electronic Federal Tax Payment System (EFTPS).

Form: IRS form 9779, 9779(SP), 9783, 9783(SP), 9787, 9787(SP), 9789, 9789(SP) and 12252.

Description: Enrollment is vital to the implementation of the Electronic Federal Tax Payment System (EFTPS). EFTPS is an electronic remittance processing system that the service will use to accept electronically transmitted federal tax payments. This system is a necessary outgrowth of advanced information and communication technologies.

Respondents: Business or other for-profit, Individuals and households and State, Local or Tribal Government.

Estimated Total Burden Hours: 766,613 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. 05-20906 Filed 10-18-05; 8:45 am]

BILLING CODE 4830-01-P